SMALL BUSINESS ADMINISTRATION

Actions Subject to Intergovernmental Review

AGENCY: U.S. Small Business Administration.

ACTION: Notice of action subject to intergovernmental review under Executive Order 12372.

SUMMARY: The Small Business Administration (SBA) is notifying the public that it intends to fund grant applications for 41 existing Small Business Development Centers (SBDCs) beginning January 1, 2016 subject to the availability of funds. A description of the SBDC program is contained in the supplementary information.

The SBA is publishing this notice at least 90 days before the expected funding date. The SBDCs mailing addresses listed below are participating in the intergovernmental review process. A copy of this notice also is being furnished to the respective State single points of contact designated under the Executive Order.

DATES: A State single point of contact and other interested State or local entities may submit written comments regarding funding of an SBDC within 30 days from the date of publication of this notice. Please address any comments to the relevant SBDC State Director listed below.

ADDRESSES:

Addresses of Relevant SBDC State Directors
Mr. Sherman Wilkinson, SBDC State Director, Salt Lake Community College, 9750 South 300 West, Sandy, UT 84070, (801) 957-5384 | Mr. Herbert Thweatt, SBDC Director, American Samoa Community College, P.O. Box 2609, Pago Pago, American Samoa 96799, (684) 699-4830
Ms. Michele Abraham, SBDC State Director, University of South Carolina, 1705 College Street, Columbia, SC 29208, (803) 777-4555 | Mr. Michael Myhre, SBDC State Director, University of West Florida, 11000 University Parkway, Bldg. 38, Pensacola, FL 32514, (850) 473-7802
Ms. Diane R. Howerton, SBDC Regional Director, University of California, Merced, 550 East Shaw, Suite 100, Fresno, CA 93710, (559) 241-6590 | Mr. Sam Males, SBDC State Director, University of Nevada Reno, College of Business Admin., Room 441, Reno, NV 89557-0100, (775) 784-1717.
Mr. Marquise Jackson, Acting SBDC Regional Director, Southwestern Community College, 880 National City Blvd., National City, CA 91950, (619) 216-6718 |
Mr. Casey Jeszenka, SBDC Network Director, University of Guam, P.O. Box 5014—U.O.G. Station, Mangilao, GU 96923, (671) 735-2590 | Mr. Timothy Mittan, Acting SBDC Regional Director, Long Beach Community College, 4901 E Carson Street, MC 05, Long Beach, CA 90808, (562) 938-5020.
Mr. Dan Ripke, SBDC Regional Director, California State University, Chico, Building 35, CSU Chico, Chico, CA 95929, (530) 898-4598 | Ms. Kristin Johnson, SBDC Regional Director, Humboldt State University, Office of Economic & Community Dev., 1 Harpst Street, House 71, Room 110, Arcata, CA 95521, (707) 826-3920.
Ms. Katrina Smith, Acting SBDC Regional Director, Orange County/Inland Empire Network, 800 North State College Blvd., SGMH 5313, Fullerton, CA 92831, (657) 278-3195 | Ms. Janice Washington, SBDC State Director, Maricopa County Comm. College, 2411 West 14th Street, Suite 132, Tempe, AZ 85281-6942, (480) 731-8722.
Ms. Janet Rodrick, SBDC State Director, University of Arkansas, 2801 South University Avenue, Little Rock, AR 72204, (501) 683-7700 | Mr. Darrell Brown, SBDC Executive Director, Howard University, 2600 6th Street NW., Washington, DC 20059, (202) 806-1550.
Mr. Allan Adams, SBDC State Director, University of Georgia, Chicopee Complex, 1180 East Broad Street, Athens, GA 30602, (706) 542-6762 | Mr. David Martin, SBDC State Director, University of North Dakota, Bank of North Dakota Building, 1200 Memorial Highway, Bismarck, ND 58504, (701) 715-2475.
Mr. Rich Grogan, SBDC State Director, University of New Hampshire, 10 Garrison Ave., Durham, NH 03824, (603) 862-1446 | Dr. Gerald Sonnenfeld, Interim SBDC State Director, University of Rhode Island, 75 Lower College Road, Kingston, RI 02881, (401) 874-4576.
Mr. Keith Brophy, State Director, 1034 L. William Seidman Center, 50 Front Avenue SW., Grand Rapids, MI 49504, (616) 331-7371 |

FOR FURTHER INFORMATION CONTACT: Vicky Mundt, Director of Financial Oversight, Office of Small Business Development Centers, U.S. Small Business Administration, 409 Third Street SW., Sixth Floor, Washington, DC 20416.

SUPPLEMENTARY INFORMATION:

Description of the SBDC Program

Small Business Development Centers (SBDCs) provide a wide array of technical assistance to small businesses and aspiring entrepreneurs supporting business performance and sustainability and enhancing the creation of new businesses entities. These small businesses in turn foster local and regional economic development through job creation and retention as a result of the extensive one-on-one long-term counseling, training and specialized services they receive from the SBDCs. The SBDCs are made up of a unique collaboration of SBA, state and local governments, and private sector funding resources.

SBDCs provide clients with professional business assistance regarding business plans, market research, financial preparation packages, cash flow, and procurement contracts. Special emphasis areas include: Manufacturing; international trade and export assistance; e-commerce; technology transfer; assistance for veterans, both active duty and personnel returning from deployment; disaster recovery assistance; IRS, EPA, and OSHA regulatory compliance; as well as research and development. Based on client needs, business trends and individual business requirements, SBDCs modify their services to meet the evolving needs through more than 900 local service delivery points across the nation and all U.S. Territories.

SBDCs deliver these services to small business concerns using an effective education network of 63 Lead Centers reaching out to both rural and urban areas, serving entrepreneurs of all types throughout a state or region. SBDCs can be found in every U.S. state, the District of Columbia, Guam, Puerto Rico, American Samoa and the U.S. Virgin Islands. SBDCs provide professional business counseling free of charge along with low cost training.

To reach the millions of small businesses across the U.S., SBDC assistance is available virtually anywhere: From rural circuit riders in Alaska to marine services in the Outer Banks of North Carolina. Many centers are located within or are co-located with: Local economic development entities; chambers of commerce; Department of Defense's Procurement Technical Assistance Centers; The Department of Commerce's Manufacturing Extension Partnership sites; and community colleges. Some SBDCs also have International Trade Centers and some are classified by a special emphasis on Technology.

Lead Center SBDCs hosts include:

• 48 University-sponsored Lead SBDCs, 2 SBDC locations are located at Historically Black Colleges and Universities (Howard University in Washington, DC and the University of the Virgin Islands, U.S.V.I.).

• 8 Community college-sponsored Lead SBDCs, Dallas-TX, UT, OR, NM, AZ, San Diego-CA, Los Angeles, CA, and American Samoa.

• 7 State-sponsored Lead SBDCs (CO, IL, IN, MN, MT, OH, & WV).

Program Objectives

The SBDC program uses Federal funds to leverage the resources of states, academic institutions and the private sector to:

(a) Strengthen the nation's small business communities;

(b) increase local economic growth;

(c) ensure inclusiveness by broadening the impact of SBDC technical assistance to underserved markets.

SBDC Program Organization

Through a partnership between SBA and institutions of higher education and state government, a network of 63 lead SBDCs are managed by the Office of Small Business Development Centers (OSBDC). The local District Offices have a Project Officer to ensure each SBDC provides quality services and is in compliance with its negotiated Cooperative Agreement with the SBA. OSBDC has six Program Managers who each have a portfolio of 10-12 SBDCs for which they are responsible for SBDC performance management. OSBDC also has three Grants Managers along with a finance staff who oversee the issuance and budget aspects of the Cooperative Agreement. SBDCs operate on the basis of an annual proposed plan to provide assistance within a state or geographic area. The initial plan must have the written approval of the Governor. Non-Federal funds must match Federal funds by 1:1.

SBDC Services

An SBDC must have a full range of business development and technical assistance services in its area of operations, supporting local small business needs, SBA priorities and established SBDC program objectives. Services include training and professional business advising to existing and prospective small business owners in all areas of small firm establishment and growth, including: Management; online and social media and marketing; finance and access to capital; exporting and international trade; manufacturing; and business operations, including disaster mitigation.

The SBA district office and the SBDC negotiate annually through this funding announcement the specific mix of services and best use of program funds to meet mutually agreed upon annual milestones, giving particular attention to SBA's annual priorities and special emphasis groups, including veterans, women, the disabled, and other minorities.

SBDC Program Requirements

An SBDC must meet required programmatic and financial requirements established by statute, regulations, other program directive and its Cooperative Agreement. Following these guidelines an SBDC must:

(a) Provide services that are as accessible to all persons, especially those who identify as disabled;

(b) open all service centers during normal business hours of the community or during the normal business hours of its state or academic Host Organization, throughout the year;

(c) develop working relationships with financial institutions, the investment communities, professional associations, private consultants and local small business groups;

(d) establish a lead center which operates and oversees a statewide or regional network of SBDC service centers;

(e) have a full-time Director; and

(f) expend at least 80 percent of the Federal funds to provide direct client services to small businesses.

Scott Henry,
Acting Associate Administrator, Office of Small Business Development Centers.

[FR Doc. 2015-16149 Filed 6-30-15; 8:45 am]

BILLING CODE 8025-01-P